ENVIRONMENTAL PROTECTION AGENCY

[EPA-HQ-ORD-2015-0467; FRL-10013-85-ORD]

Board of Scientific Counselors (BOSC) Safe and Sustainable Water Resources Subcommittee Meeting—October 2020

AGENCY: Environmental Protection Agency (EPA).

ACTION: Notice of public meeting.

SUMMARY: The Environmental Protection Agency (EPA), Office of Research and Development (ORD), gives notice of a virtual meeting of the Board of Scientific Counselors (BOSC) Safe and Sustainable Water Resources (SSWR) Subcommittee to review the initial progress on implementation of the FY 19-22 SSWR Strategic Research Action Plan (StRAP).

DATES: 1. The initial meeting will be held over two days via videoconference:

a. Wednesday, October 28, 2020, from 12 p.m. to 5 p.m. (EDT); and

b. Thursday, October 29, 2020, from 12 p.m. to 5 p.m. (EDT).

Attendees must register by October 27, 2020.

2. A BOSC deliberation will be held on November 13, 2020 from 11 a.m. to 2 p.m. (EDT). Attendees must register by November 12, 2020.

3. A final summary teleconference will be held on December 2, 2020 from 2 p.m. to 5 p.m. (EDT). Attendees must register by December 1, 2020.

Meeting times are subject to change. These series of meetings are open to the public. Comments must be received by October 27, 2020, to be considered by the subcommittee. Requests for the draft agenda or making a presentation at the meeting will be accepted until October 27, 2020.

ADDRESSES: Instructions on how to connect to the videoconference will be provided upon registration at https://www.eventbrite.com/e/us-epa-bosc-safe-and-sustainable-water-resources-subcommittee-meeting-tickets-113549724282.

Submit your comments to Docket ID No. EPA-HQ-ORD-2015-0467 by one of the following methods:

• www.regulations.gov: Follow the online instructions for submitting comments.

Note: Comments submitted to the www.regulations.gov website are anonymous unless identifying information is included in the body of the comment.

• Email: Send comments by electronic mail (email) to: ORD.Docket@epa.gov, Attention Docket ID No. EPA-HQ-ORD-2015-0467.

Note: Comments submitted via email are not anonymous. The sender's email will be included in the body of the comment and placed in the public docket which is made available on the internet.

Instructions: All comments received, including any personal information provided, will be included in the public docket without change and may be made available online at www.regulations.gov. Information claimed to be Confidential Business Information (CBI) or other information whose disclosure is restricted by statute will not be included in the public docket, and should not be submitted through www.regulations.gov or email. For additional information about the EPA's public docket visit the EPA Docket Center homepage at http://www.epa.gov/dockets/.

Public Docket: Publicly available docket materials may be accessed Online at www.regulations.gov.

Copyrighted materials in the docket are only available via hard copy. The telephone number for the ORD Docket Center is (202) 566-1752.

FOR FURTHER INFORMATION CONTACT: The Designated Federal Officer (DFO), Tom Tracy, via phone/voicemail at: (202) 564-6518; or via email at: tracy.tom@epa.gov.

Any member of the public interested in receiving a draft agenda, attending the meeting, or making a presentation at the meeting should contact Tom Tracy no later than October 27, 2020.

SUPPLEMENTARY INFORMATION: The Board of Scientific Counselors (BOSC) is a federal advisory committee that provides advice and recommendations to EPA's Office of Research and Development on technical and management issues of its research programs. The meeting agenda and materials will be posted to https://www.epa.gov/bosc.

Proposed agenda items for the meeting include, but are not limited to, the following: Watersheds and Progress of StRAP Implementation.

Information on Services Available: For information on translation services, access, or services for individuals with disabilities, please contact Tom Tracy at (202) 564-6518 or tracy.tom@epa.gov. To request accommodation of a disability, please contact Tom Tracy at least ten days prior to the meeting to give the EPA adequate time to process your request.

Authority: Pub. L. 92-463, 1, Oct. 6, 1972, 86 Stat. 770.

Mary Ross,
Director, Office of Science Advisor, Policy, and Engagement.

[FR Doc. 2020-18516 Filed 8-21-20; 8:45 am]

BILLING CODE 6560-50-P